FEDERAL COMMUNICATIONS COMMISSION

Notice of Public Information Collection(s) Being Submitted for Review to the Office of Management and Budget

July 11, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 19, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this new or revised information collection, you may do so by visiting the FCC PRA Web page at: http://www.fcc.gov/omd/pra.

FOR FURTHER INFORMATION CONTACT: For additional information or copies of the information collection(s), contact Judith B. Herman at (202) 418-0214 or via the Internet at Judith-B.Herman@fcc.gov.

SUPPLEMENTARY INFORMATION: OMB Control No.: 3060-0678.

Title: Part 25 of the Commission's Rules Governing the Licensing of, and Spectrum Usage by, Satellite Network Earth Stations and Space Stations.

Form No.: FCC Form 312, Schedule S.

Type of Review: Revision of a currently approved collection.

Respondents: Business or other for-profit.

Number of Respondents: 3,001.

Estimated Time Per Response: 1-80 hours.

Frequency of Response: On occasion and annual reporting requirements and third party disclosure requirement.

Total Annual Burden: 41,279 hours.

Total Annual Cost: $531,875,000.

Privacy Act Impact Assessment: No.

Needs and Uses: The Commission adopted and released a Fifth Report and Order in IB Docket No. 00-248, and a Third Report and Order in CC Docket No. 86-496, FCC 05-63, which adopted new information collection requirements. The Commission has adopted six new rule sections which impose reporting and third party certifications which are subject to the Paperwork Reduction Act. They are: (1) Section 25.220(c)(1) requires that non-routine earth station license applicants may obtain certifications from target satellite operators showing that the non-routine earth station has been coordinated with potentially affected satellite operators; (2) Section 25.220(c)(2) requires non-routine earth station applicants may demonstrate in their applications that will reduce their power levels sufficiently to compensate for their small-than-routine earth station antennas; (3) Section 25.132(b)(3) requires submission of antenna gain patterns required of all non-routine earth station applicants proposing smaller-than-routine antennas; (4) Section 25.220(e) requires operators of satellite communicating with non-routine earth station (“target” satellite) to coordinate with non-routine power levels with operators of potentially affected satellites within six degrees and to certify that coordination has been completed; (5) Section 25.130(a) requires licensees to provide language for the Commission to place in the public notice. (In addition, applicants not required to submit applications on FCC Form 312EZ, other than ESV applicants, must submit the following information to be used as an “informative” in the public notice issued under Section 25.151 as an attachment to their application: (a) A detailed description of the service to be provided, including frequency band and satellites to be used. The applicant must identify either the specific satellite(s) with which it plans to operate, or the eastern or western boundaries of the arc it plans to coordinate; (b) the diameter or equivalent of the antenna; (c) proposed power and power density levels; (d) identification of any random access technique, if applicable; and (e) identification of a specific rule or rules for which a waiver is requested); and (6) licensees must provide information on half-power beam width if they plan to operate in a band that is shared with government users.

Federal Communications Commission.
Marlene H. Dortch,
Secretary.

[FR Doc. 05-14268 Filed 7-19-05; 8:45 am]

BILLING CODE 6712-01-P